DEPARTMENT OF LABOR

Employment and Training Administration

[ TA-W-71,168, TA-W-71,168A, TA-W-71,168B, TA-W-71,168D]

Agilent Technologies, Eesof Division, Including On-Site Leased Workers From Volt and Managed Business Solutions (MBS), Westlake Village, CA, Santa Rosa, CA, Santa Clara, CA, Everett, WA; Amended Certification Regarding Eligibility To Apply for Worker Adjustment Assistance

In accordance with Section 223 of the Trade Act of 1974, as amended (“Act”), 19 U.S.C. 2273, the Department of Labor issued a Certification of Eligibility to Apply for Worker Adjustment Assistance on October 28, 2009, applicable to workers of Agilent Technologies, EEsof Division, including on-site leased workers from Volt, Westlake Village, California, Agilent Technologies, EEsof Division, including on-site leased workers from Volt, San Rosa, California, Agilent Technologies, EEsof Division, including on-site leased workers from Volt, Alpharetta, Georgia and Agilent Technologies, EEsof Division, including on-site leased workers from Volt, Everett, Washington. The notice was published in the Federal Register on December 11, 2009 (74 FR 65795).

At the request of the State Agency, the Department reviewed the certification for workers of the subject firm. The workers are engaged in the production of electronic design automation software and related services including quality assurance and learning products, marketing, product development, marketing and administration.

The company reports that on-site leased workers from Managed Business Solutions (MBS) were employed on-site at the Westlake Village, California, Santa Rosa, California, Santa Clara, California, and the Everett, Washington locations of Agilent Technologies, EEsof Division. The Department has determined that these workers were sufficiently under the control of the subject firm to be considered leased workers.

Based on these findings, the Department is amending this certification to include workers leased from Managed Business Solutions working on-site at the above mentioned locations of Agilent Technologies, EEsof Division.

The amended notice applicable to TA-W-71,168 is hereby issued as follows:

All workers of Agilent Technologies, EEsof Division, including on-site leased workers from Volt and Managed Business Solutions (MBS), Westlake Village, California (TA-W-71,168), Agilent Technologies, EEsof Division, including on-site leased workers from Volt and Managed Business Solutions (MBS), Santa Rosa, California (TA-W-71,168A), Agilent Technologies, EEsof Division, including on-site leased workers from Volt and Managed Business Solutions (MBS), Santa Clara, California (TA-W-71,168B), Agilent Technologies, EEsof Division, including on-site leased workers from Volt, Alpharetta, Georgia (TA-W-71,168C) and Agilent Technologies, EEsof Division, including on-site leased workers from Volt and Managed Business Solutions (MBS), Everett, Washington (TA-W-71,168D), who became totally or partially separated from employment on or after June 2, 2008, through October 28, 2011, and all workers in the group threatened with total or partial separation from employment on date of certification through two years from the date of certification, are eligible to apply for adjustment assistance under Chapter 2 of Title II of the Trade Act of 1974, as amended.

Signed at Washington, DC this 1st day of March 2010.
Michael W. Jaffe,
Certifying Officer, Division of Trade Adjustment Assistance.

[FR Doc. 2010-5314 Filed 3-11-10; 8:45 am]

BILLING CODE 4510-FN-P